DEPARTMENT OF COMMERCE

National Oceanic and Atmospheric Administration

RIN 0648-XG332

Endangered Species; File No. 21858

AGENCY: National Marine Fisheries Service (NMFS), National Oceanic and Atmospheric Administration (NOAA), Commerce.

ACTION: Notice; receipt of application for a permit modification.

SUMMARY: Notice is hereby given that NMFS Greater Atlantic Regional Fisheries Office (GARFO), 55 Great Republic Drive, Gloucester MA 01930 [Responsible Party: Julie Crocker], has requested a modification to scientific research Permit No. 21858.

DATES: Written, telefaxed, or email comments must be received on or before June 10, 2019.

ADDRESSES: The modification request and related documents are available for review by selecting “Records Open for Public Comment” from the Features box on the Applications and Permits for Protected Species (APPS) home page, https://apps.nmfs.noaa.gov, and then selecting File No. 21858-03 from the list of available applications. These documents are also available upon written request or by appointment in the Permits and Conservation Division, Office of Protected Resources, NMFS, 1315 East-West Highway, Room 13705, Silver Spring, MD 20910; phone: (301) 427-8401; fax: (301) 713-0376.

Written comments on this application should be submitted to the Chief, Permits and Conservation Division, at the address listed above. Comments may also be submitted by facsimile to (301) 713-0376, or by email to NMFS.Pr1Comments@noaa.gov. Please include the File No. 21858 in the subject line of the email comment.

Those individuals requesting a public hearing should submit a written request to the Chief, Permits and Conservation Division at the address listed above. The request should set forth the specific reasons why a hearing on this application would be appropriate.

FOR FURTHER INFORMATION CONTACT: Erin Markin or Jennifer Skidmore, (301) 427-8401.

SUPPLEMENTARY INFORMATION: The subject modification to Permit No. 21858 is requested under the authority of the Endangered Species Act of 1973, as amended (16 U.S.C. 1531 et seq.) and the regulations governing the taking, importing, and exporting of endangered and threatened species (50 CFR parts 222-226).

Permit No. 21858, issued on September 7, 2018 (83 FR 53454), authorizes the permit holder to collect, receive, export, transport, and archive dead Atlantic (Acipenser oxyrinchus) and shortnose (A. brevirostrum) sturgeon, or parts thereof. This includes the receipt and export of 3,000 Atlantic and 1,500 shortnose sturgeon parts annually for the NMFS Sturgeon Tissue Repository. The permit holder requests authorization to increase the number of Atlantic and shortnose sturgeon samples from 3,000 to 15,000 and 1,500 to 5,000, respectively, to be received annually to the NMFS Sturgeon Tissue Repository. Intentional or incidental capture of Atlantic and shortnose sturgeon and collection of tissue samples occurs under separate authority. This permit does not authorize the capture and sampling of live specimens. The permit expires March 31, 2027.

Dated: May 6, 2019.
Julia Marie Harrison,
Chief, Permits and Conservation Division, Office of Protected Resources, National Marine Fisheries Service.

[FR Doc. 2019-09631 Filed 5-9-19; 8:45 am]

BILLING CODE 3510-22-P